DEPARTMENT OF HEALTH AND HUMAN SERVICES

Food and Drug Administration

[Docket No. FDA-2016-N-0001]

Identification and Characterization of the Infectious Disease Risks of Human Cells, Tissues, and Cellular and Tissue-Based Products; Public Workshop; Correction

AGENCY: Food and Drug Administration, HHS.

ACTION: Notice of public workshop; correction.

SUMMARY: The Food and Drug Administration (FDA) is correcting a notice that appeared in the Federal Register of Thursday, December 29, 2016. The document announced a public workshop entitled “Identification and Characterization of the Infectious Disease Risks of Human Cells, Tissues, and Cellular and Tissue-based Products.” The document was published with an error in the Web site address to access the transcript of the workshop. This document corrects that error.

FOR FURTHER INFORMATION CONTACT: Monica Kapoor, Center for Biologics Evaluation and Research, Food and Drug Administration, 10903 New Hampshire Ave., Bldg. 71, Rm. 3111C, Silver Spring, MD 20993, CBERPublicEvents@fda.hhs.gov; or Staci Revette, Center for Biologics Evaluation and Research, Food and Drug Administration, 10903 New Hampshire Ave., Bldg. 71, Rm. 3109B, Silver Spring, MD 20993, CBERPublicEvents@fda.hhs.gov.

SUPPLEMENTARY INFORMATION: In the Federal Register of Thursday, December 29, 2016, in FR Doc. 2016-31628, on page 96008, the following correction is made:

On page 96008, in the second column under the Transcripts caption of section III, Participating in the Public Workshop, the third sentence in the fourth paragraph is corrected to read, “Please be advised that as soon as a transcript of the public workshop is available, it will be accessible at: http://www.fda.gov/BiologicsBloodVaccines/NewsEvents/WorkshopsMeetingsConferences/ucm525001.htm.”

Dated: March 14, 2017.
Leslie Kux,
Associate Commissioner for Policy.

[FR Doc. 2017-05417 Filed 3-17-17; 8:45 am]

BILLING CODE 4164-01-P